DEPARTMENT OF TRANSPORTATION

Federal Aviation Administration

14 CFR Part 39

[Docket No. FAA-2005-22813; Directorate Identifier 2002-NM-117-AD; Amendment 39-14493; AD 2000-24-03 R1]

RIN 2120-AA64

Airworthiness Directives; AvCraft Dornier Model 328-100 Airplanes

AGENCY: Federal Aviation Administration (FAA), Department of Transportation (DOT).

ACTION: Final rule.

SUMMARY: The FAA is revising an existing airworthiness directive (AD) that applies to all AvCraft Dornier Model 328-100 airplanes. That AD currently requires revising the airplane flight manual (AFM) to provide the flightcrew with additional information regarding procedures to ensure complete pressurization of the hydraulic lines for the flaps. The existing AD also requires, for certain airplanes, modifying of the flap actuators of the flight controls. We issued that AD to prevent an uncommanded retraction of the flaps during takeoff, which could result in an aborted takeoff and consequent potential for runway overrun. This new AD allows the removal of the AFM revisions after modifying the flap actuators of the flight controls. This AD results from the determination that the AFM revisions are not necessary after modifying the flap actuators of the flight controls. We are issuing this AD to prevent an uncommanded retraction of the flaps during takeoff, which could result in an aborted takeoff and consequent potential for runway overrun.

DATES: The effective date of this AD is January 8, 2001.

On January 8, 2001 (65 FR 75601, December 4, 2000), the Director of the Federal Register approved the incorporation by reference of Dornier 328 All Operators Telefax AOT-328-27-016, Revision 1, dated October 28, 1998; and Dornier 328 Service Bulletin SB-328-27-293, dated November 10, 1999.

On November 12, 1998 (63 FR 57244, October 27, 1998), the Director of the Federal Register approved the incorporation by reference of Dornier 328 All Operators Telefax AOT-328-27-016, dated July 31, 1998.

ADDRESSES: You may examine the AD docket on the Internet at http://dms.dot.gov or in person at the Docket Management Facility, U.S. Department of Transportation, 400 Seventh Street SW., Nassif Building, room PL-401, Washington, DC.

Contact AvCraft Aerospace GmbH, P.O. Box 1103, D-82230 Wessling, Germany, for service information identified in this AD.

FOR FURTHER INFORMATION CONTACT: Rosanne Ryburn, Aerospace Engineer, International Branch, ANM-116, Transport Airplane Directorate, FAA, 1601 Lind Avenue, SW., Renton, Washington 98055-4056; telephone (425) 227-2139; fax (425) 227-1149.

SUPPLEMENTARY INFORMATION:

Examining the Docket

You may examine the AD docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA proposed to amend part 39 of the Federal Aviation Regulations (14 CFR part 39) with an airworthiness directive (AD) to revise AD 2000-24-03, amendment 39-12010 (65 FR 75601, December 4, 2000). The existing AD applies to all Dornier Model 328-100 series airplanes. The proposed AD was published in the Federal Register on November 1, 2005 (70 FR 65864) to continue to require revising the airplane flight manual (AFM) to provide the flightcrew with additional information regarding procedures to ensure complete pressurization of the hydraulic lines for the flaps, and for certain airplanes, modifying the flap actuators of the flight controls. The proposed AD also proposed to allow the removal of the AFM revisions after modifying the flap actuators of the flight controls.

Comments

We provided the public the opportunity to participate in the development of this AD. We received no comments on the NPRM or on the determination of the cost to the public.

Conclusion

We have carefully reviewed the available data and determined that air safety and the public interest require adopting the AD as proposed.

Costs of Compliance

We estimate that 52 airplanes of U.S. registry will be affected by this AD.

The AFM revision that is currently required by AD 2000-24-03, and retained in this AD, takes approximately 1 work hour per airplane to accomplish, at an average labor rate of $65 per work hour. Based on these figures, the cost impact of the currently required AFM revision on U.S. operators is approximately $3,380, or $65 per airplane.

The modification that is currently required by AD 2000-24-03, and retained in this AD, takes approximately 4 work hours per airplane to accomplish, at an average labor rate of $65 per work hour. Required parts will be provided by the manufacturer at no cost to the operators. Based on these figures, the cost impact of the currently required modification on U.S. operators is estimated to be $260 per airplane.

The removal of the AFM revisions that is specified in this AD, if done, takes approximately 1 work hour per airplane to accomplish, at an average labor rate of $65 per work hour. Based on these figures, the cost impact of the removal of AFM revisions on U.S. operators is approximately $65 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-12010 (65 FR 75601, December 4, 2000), and adding the following new airworthiness directive (AD):

2000-24-03 R1 AvCraft Aerospace GmbH (Formerly Fairchild Dornier GmbH): Amendment 39-14493. Docket No. FAA-2005-22813; Directorate Identifier 2002-NM-117-AD.

Effective Date

(a) The effective date of this AD is January 8, 2001.

Affected ADs

(b) This AD revises AD 2000-24-03.

Applicability

(c) This AD applies to all AvCraft Dornier Model 328-100 airplanes, certificated in any category.

Unsafe Condition

(d) This AD results from the determination that certain airplane flight manual (AFM) revisions are not necessary after modifying the flap actuators of the flight controls. We are issuing this AD to prevent an uncommanded retraction of the flaps during takeoff, which could result in an aborted takeoff and consequent potential for runway overrun.

Compliance

(e) You are responsible for having the actions required by this AD performed within the compliance times specified, unless the actions have already been done.

AFM Revision

(f) Within 14 days after November 12, 1998 (the effective date of AD 98-22-07, amendment 39-10854), accomplish the requirements of paragraphs (f)(1) and (f)(2) of this AD.

(1) Revise the Normal Procedures section of the Dornier 328 FAA-approved AFM to include the information specified in pages 6 and 7 of Dornier 328 All Operators Telefax (AOT) AOT-328-27-016, dated July 31, 1998. This may be accomplished by inserting a copy of pages 6 and 7 of the AOT into the AFM.

(2) Revise the Abnormal Procedures section of the Dornier 328 FAA-approved AFM to include the information specified in page 4 of Dornier 328 AOT-328-27-016, dated July 31, 1998. This may be accomplished by inserting a copy of page 4 of the AOT into the AFM.

New AFM Revision

(g) For all airplanes: Within 3 days after January 8, 2001 (the effective date of AD 2000-24-03), revise the Dornier 328 FAA-approved AFM as specified in paragraphs (g)(1) and (g)(2) of this AD. Concurrently with this AFM revision, remove the AFM revisions required by paragraph (f) of this AD from the AFM.

(1) Revise the Normal Procedures section to include the information specified in pages 4, 5, and 6 of Dornier 328 AOT-328-27-016, Revision 1, dated October 28, 1998. This may be accomplished by inserting a copy of pages 4, 5, and 6 of the AOT into the AFM.

(2) Revise the Abnormal Procedures section to include the information specified in page 3 of Dornier 328 AOT-328-27-016, Revision 1, dated October 28, 1998. This may be accomplished by inserting a copy of page 3 of the AOT into the AFM.

Modification

(h) For airplanes with serial numbers 3005 through 3099 inclusive, 3101 through 3108 inclusive, and 3110 through 3119 inclusive: Within 5 months after January 8, 2001, modify the flap actuators of the flight controls, in accordance with Dornier 328 Service Bulletin SB-328-27-293, dated November 10, 1999. After accomplishing the modification, operators may remove the AFM revisions required by paragraphs (f) and (g) of this AD from the AFM.

Note 1: The Dornier service bulletin references Liebherr Aerospace Service Bulletin 1048A-27-02, dated November 9, 1999, as an additional source of service information for accomplishing the modification of the flap actuators of the flight controls.

Alternative Methods of Compliance (AMOCs)

(i)(1) The Manager, International Branch, ANM-116, Transport Airplane Directorate, FAA, has the authority to approve AMOCs for this AD, if requested in accordance with the procedures found in 14 CFR 39.19.

(2) Before using any AMOC approved in accordance with 14 CFR 39.19 on any airplane to which the AMOC applies, notify the appropriate principal inspector in the FAA Flight Standards Certificate Holding District Office.

(3) AMOCs approved previously in accordance with AD 98-22-07, amendment 39-10854, are approved as AMOCs with paragraph (f) of this AD.

(4) AMOCs approved previously in accordance with AD 2000-24-03, amendment 39-12010, are approved as AMOCs with this AD.

Related Information

(j) German airworthiness directive 1998-359/3, effective April 6, 2000, also addresses the subject of this AD.

Material Incorporated by Reference

(k) You must use Dornier 328 All Operators Telefax AOT-328-27-016, dated July 31, 1998; Dornier 328 All Operators Telefax AOT-328-27-016, Revision 1, dated October 28, 1998; and Dornier 328 Service Bulletin SB-328-27-293, dated November 10, 1999; as applicable, unless the AD specifies otherwise.

(1) On January 8, 2001 (65 FR 75601, December 4, 2000), the Director of the Federal Register approved the incorporation by reference of Dornier 328 All Operators Telefax AOT-328-27-016, Revision 1, dated October 28, 1998; and Dornier 328 Service Bulletin SB-328-27-293, dated November 10, 1999.

(2) On November 12, 1998 (63 FR 57244, October 27, 1998), the Director of the Federal Register approved the incorporation by reference of Dornier 328 All Operators Telefax AOT-328-27-016, dated July 31, 1998.

(3) Contact AvCraft Aerospace GmbH, P.O. Box 1103, D-82230 Wessling, Germany, for a copy of this service information. You may review copies at the Docket Management Facility, U.S. Department of Transportation, 400 Seventh Street SW., room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on February 10, 2006.
Kalene C. Yanamura,
Acting Manager, Transport Airplane Directorate, Aircraft Certification Service.

[FR Doc. 06-1596 Filed 2-22-06; 8:45 am]

BILLING CODE 4910-13-P